DEPARTMENT OF DEFENSE

Office of the Secretary

Membership of the Performance Review Board

AGENCY: Defense Finance and Accounting Service, DoD.

ACTION: Notice of Members of Performance Review Board.

This notice announces the appointment of the members of the Performance Review Board (PRB) of the Defense Finance and Accounting Service. The publication of PRB membership is required by 5 U.S.C. 4314(c)(4).

The Performance Review Board (PRB) provides air and impartial review of Senior Executive Service performance appraisals and makes recommendations regarding performance ratings and performance scores to the Director, DFAS.

DATES: Effective Date: November 15, 2006.

FOR FURTHER INFORMATION CONTACT: Jerry Hovey, DFAS SES Program Manager, Defense Finance and Accounting Service, Arlington, Virginia, (863) 815-3709.

SUPPLEMENTARY INFORMATION: In accordance with 5 U.S.C. 4314(c)(4), the following executives are appointed to the Defense Finance and Accounting Service PRB: Teresa McKay, Patrick T. Shine, Leon J. Krushinski, Audrey Y. Davis, Kathleen D. Noe.

Executives listed will serve a one-year renewable term, effective November 15, 2006.

Dated: October 5, 2006.
C.R. Choate,
Alternate OD Federal Register Liaison Officer, Department of Defense.

[FR Doc. 06-8625 Filed 10-11-06; 8:45 am]

BILLING CODE 5001-06-M